U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC, on March 19, 2026 on “China's Expanding Interests in Latin America: Development, Leverage, Coercion, and Crime.”

DATES: The hearing is scheduled for Thursday, March 19, 2026 at 9:30 a.m.

ADDRESSES: Members of the public will be able to attend in person at or near the U.S. Capitol and adjacent Congressional office buildings (specific building and room number to be announced) or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the third public hearing the Commission will hold during its 2026 reporting cycle. The hearing will examine how Chinese investment models and influence in Latin America are evolving. It will present an overview of China's strategic approach to Latin America and its primary tactics for building political and economic influence in the region. It will then explore several aspects of Chinese investment in the region, highlighting China's influence toolkit, economic coercion tactics, role in dual-use ports, and connections to transnational crime. The hearing will review the implications of Chinese activities for the regional economic and security environment and for U.S. interests and policy efforts in Latin America.

The hearing will be co-chaired by Commissioner Joshua Hodges and Commissioner Reva Price. Any interested party may file a written statement by March 19, 2026 by transmitting it to the contact above. A portion of the hearing will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: February 25, 2026.
Christopher P. Fioravante,
Deputy Executive Director, U.S.-China Economic and Security Review Commission.

[FR Doc. 2026-04167 Filed 3-2-26; 8:45 am]

BILLING CODE 1137-00-P